DEPARTMENT OF TRANSPORTATION

National Highway Traffic Safety Administration

49 CFR Part 541

[Docket No. NHTSA 2010-0098]

Preliminary Theft Data; Motor Vehicle Theft Prevention Standard

AGENCY: National Highway Traffic Safety Administration (NHTSA), Department of Transportation.

ACTION: Publication of preliminary theft data; request for comments.

SUMMARY: This document requests comments on data about passenger motor vehicle thefts that occurred in calendar year (CY) 2008 including theft rates for existing passenger motor vehicle lines manufactured in model year (MY) 2008. The preliminary theft data indicate that the vehicle theft rate for CY/MY 2008 vehicles (1.69 thefts per thousand vehicles) decreased by 8.65 percent from the theft rate for CY/MY 2007 vehicles (1.85 thefts per thousand vehicles).

Publication of these data fulfills NHTSA's statutory obligation to periodically obtain accurate and timely theft data, and publish the information for review and comment.

DATES: Comments must be submitted on or before October 18, 2010.

ADDRESSES: You may submit comments [identified by Docket No. NHTSA-2010-0098 by any of the following methods:

• Federal eRulemaking Portal: Go to http://www.regulations.gov. Follow the online instructions for submitting comments.

• Mail: Docket Management Facility: U.S. Department of Transportation, 1200 New Jersey Avenue, SE., West Building Ground Floor, Room W12-140, Washington, DC 20590-0001.

• Hand Delivery or Courier: West Building Ground Floor, Room W12-140, 1200 New Jersey Avenue, SE., between 9 a.m. and 5 p.m. ET, Monday through Friday, except Federal holidays.

• Fax: 202-493-2251.

Instructions: For detailed instructions on submitting comments and additional information on the rulemaking process, see the Public Participation heading of the Supplementary Information section of this document. Note that all comments received will be posted without change to http://www.regulations.gov, including any personal information provided. Please see the Privacy Act heading below.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78) or you may visit http://DocketsInfo.dot.gov.

Docket: For access to the docket to read background documents or comments received, go to http://www.regulations.gov. or the street address listed above. Follow the online instructions for accessing the dockets.

FOR FURTHER INFORMATION CONTACT: Ms. Deborah Mazyck, Office of International Policy, Fuel Economy and Consumer Programs, NHTSA, 1200 New Jersey Avenue, SE., Washington, DC 20590. Ms. Mazyck's telephone number is (202) 366-0846. Her fax number is (202) 493-2990.

SUPPLEMENTARY INFORMATION: NHTSA administers a program for reducing motor vehicle theft. The central feature of this program is the Federal Motor Vehicle Theft Prevention Standard, 49 CFR part 541. The standard specifies performance requirements for inscribing or affixing vehicle identification numbers (VINs) onto certain major original equipment and replacement parts of high-theft lines of passenger motor vehicles.

The agency is required by 49 U.S.C. 33104(b)(4) to periodically obtain, from the most reliable source, accurate and timely theft data, and publish the data for review and comment. To fulfill the § 33104(b)(4) mandate, this document reports the preliminary theft data for CY 2008 the most recent calendar year for which data are available.

In calculating the 2008 theft rates, NHTSA followed the same procedures it has used since publication of the 1983/1984 theft rate data (50 FR 46669, November 12, 1985). The 2008 theft rate for each vehicle line was calculated by dividing the number of reported thefts of MY 2008 vehicles of that line stolen during calendar year 2008 by the total number of vehicles in that line manufactured for MY 2008, as reported to the Environmental Protection Agency (EPA). As in all previous reports, NHTSA's data were based on information provided to NHTSA by the National Crime Information Center (NCIC) of the Federal Bureau of Investigation. The NCIC is a government system that receives vehicle theft information from approximately 23,000 criminal justice agencies and other law enforcement authorities throughout the United States. The NCIC data also include reported thefts of self-insured and uninsured vehicles, not all of which are reported to other data sources.

The preliminary 2008 theft data show a decrease in the vehicle theft rate when compared to the theft rate experienced in CY/MY 2007 (for 2007 theft data, see 75 FR 47720, August 9, 2010). The preliminary theft rate for MY 2008 passenger vehicles stolen in calendar year 2008 decreased to 1.69 thefts per thousand vehicles produced, a decrease of 8.65 percent from the rate of 1.85 thefts per thousand vehicles experienced by MY 2007 vehicles in CY 2007. For MY 2008 vehicles, out of a total of 239 vehicle lines, 18 lines had a theft rate higher than 3.5826 per thousand vehicles, the established median theft rate for MYs 1990/1991 (see 59 FR 12400, March 16, 1994). Of the 18 vehicle lines with a theft rate higher than 3.5826, 14 are passenger car lines, four are multipurpose passenger vehicle lines, and none are light-duty truck lines.

The agency believes that the theft rate reduction is a result of several factors, including vehicle parts marking; the increased use of standard antitheft devices (i.e., as immobilizers); advances in electronic technology and other theft prevention methods (i.e., remote engine disablers, license tag readers; improved door locks); increased and improved prosecution efforts by law enforcement organizations; and, increased public awareness (i.e., precautionary measures for vehicle owners) which may have contributed to the overall reduction in vehicle thefts. The preliminary MY 2008 theft rate reduction is consistent with the general decreasing trend of theft rates over the past 16 years as indicated by Figure 1.

In Table I, NHTSA has tentatively ranked each of the MY 2008 vehicle lines in descending order of theft rate. Public comment is sought on the accuracy of the data, including the data for the production volumes of individual vehicle lines.

Comments must not exceed 15 pages in length (49 CFR 553.21). Attachments may be appended to these submissions without regard to the 15 page limit. This limitation is intended to encourage commenters to detail their primary arguments in a concise fashion.

If a commenter wishes to submit certain information under a claim of confidentiality, three copies of the complete submission, including purportedly confidential business information, should be submitted to the Chief Counsel, NHTSA, at the street address given above, and two copies from which the purportedly confidential information has been deleted should be submitted to Dockets. A request for confidentiality should be accompanied by a cover letter setting forth the information specified in the agency's confidential business information regulation. 49 CFR part 512.

All comments received before the close of business on the comment closing date indicated above for this document will be considered, and will be available for examination in the docket at the above address both before and after that date. To the extent possible, comments filed after the closing date will also be considered. Comments on this document will be available for inspection in the docket. NHTSA will continue to file relevant information as it becomes available for inspection in the docket after the closing date, and it is recommended that interested persons continue to examine the docket for new material.

Those persons desiring to be notified upon receipt of their comments in the rules docket should enclose a self-addressed, stamped postcard in the envelope with their comments. Upon receiving the comments, the docket supervisor will return the postcard by mail.

Privacy Act: Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://DocketsInfo.dot.gov.

Authority: 49 U.S.C. 33101, 33102 and 33104; delegation of authority at 49 CFR 1.50.

Preliminary Report of Theft Rates for Model Year 2008 Passenger Motor Vehicles Stolen in Calendar Year 2008
| Manufacturer | Make/model (line) | Thefts 2008 | Production (Mfr's) 2008 | 2008 Theft rate (per 1,000 vehicles produced)
1 | CHRYSLER | DODGE MAGNUM | 208 | 15,319 | 13.5779
2 | GENERAL MOTORS | PONTIAC GRAND PRIX | 436 | 64,268 | 6.7841
3 | CHRYSLER | DODGE CHARGER | 728 | 110,895 | 6.5648
4 | MITSUBISHI | GALANT | 77 | 11,986 | 6.4242
5 | CHRYSLER | 300 | 483 | 76,295 | 6.3307
6 | HYUNDAI | AZERA | 62 | 11,462 | 5.4092
7 | CHRYSLER | SEBRING | 260 | 51,096 | 5.0885
8 | CHRYSLER | PACIFICA | 83 | 16,384 | 5.0659
9 | CHRYSLER | PT CRUISER CONVERTIBLE | 9 | 1,830 | 4.9180
10 | HYUNDAI | SONATA | 429 | 87,456 | 4.9053
11 | GENERAL MOTORS | CADILLAC STS | 82 | 17,517 | 4.6812
12 | CHRYSLER | DODGE AVENGER | 641 | 137,543 | 4.6604
13 | NISSAN | PATHFINDER | 115 | 25,262 | 4.5523
14 | CHRYSLER | DODGE CALIBER | 387 | 91,288 | 4.2393
15 | MAZDA | 6 | 182 | 44,114 | 4.1257
16 | CHRYSLER | PT CRUISER | 254 | 65,485 | 3.8788
17 | CHRYSLER | SEBRING CONVERTIBLE | 177 | 45,930 | 3.8537
18 | HONDA | S2000 | 10 | 2,606 | 3.8373
19 | GENERAL MOTORS | PONTIAC G6 | 549 | 154,317 | 3.5576
20 | LAMBORGHINI | MURCIELAGO | 1 | 288 | 3.4722
21 | NISSAN | INFINITI FX35 | 52 | 15,179 | 3.4258
22 | NISSAN | MAXIMA | 131 | 38,602 | 3.3936
23 | ISUZU | I SERIES PICKUP | 10 | 2,977 | 3.3591
24 | MITSUBISHI | ECLIPSE | 70 | 21,046 | 3.3260
25 | NISSAN | 350Z | 41 | 12,373 | 3.3137
26 | BMW | M6 | 5 | 1,547 | 3.2321
27 | SUZUKI | XL7 | 78 | 24,555 | 3.1765
28 | ASTON MARTIN | DB9 | 1 | 323 | 3.0960
29 | FORD MOTOR CO. | MUSTANG | 287 | 94,476 | 3.0378
30 | GENERAL MOTORS | CHEVROLET COBALT | 535 | 176,456 | 3.0319
31 | KIA | SPECTRA | 181 | 60,253 | 3.0040
32 | GENERAL MOTORS | CHEVROLET IMPALA | 923 | 320,116 | 2.8833
33 | SUZUKI | FORENZA | 61 | 21,358 | 2.8561
34 | ISUZU | ASCENDER | 3 | 1,063 | 2.8222
35 | VOLVO | S40 | 33 | 11,753 | 2.8078
36 | BMW | 7 | 38 | 13,599 | 2.7943
37 | CHRYSLER | DODGE NITRO | 135 | 48,377 | 2.7906
38 | GENERAL MOTORS | CHEVROLET MALIBU | 423 | 155,433 | 2.7214
39 | KIA | RIO | 92 | 35,014 | 2.6275
40 | AUDI | AUDI S8/S8 QUATTRO | 1 | 385 | 2.5974
41 | GENERAL MOTORS | PONTIAC G5 | 52 | 20,185 | 2.5762
42 | GENERAL MOTORS | CHEVROLET AVEO | 139 | 56,070 | 2.4790
43 | KIA | OPTIMA | 113 | 47,198 | 2.3942
44 | GENERAL MOTORS | CADILLAC DTS | 97 | 40,809 | 2.3769
45 | VOLVO | S60 | 32 | 13,592 | 2.3543
46 | GENERAL MOTORS | CHEVROLET HHR | 219 | 99,176 | 2.2082
47 | GENERAL MOTORS | CHEVROLET TRAILBLAZER | 215 | 100,805 | 2.1328
48 | TOYOTA | SCION TC | 114 | 54,835 | 2.0790
49 | SUZUKI | RENO | 10 | 4,840 | 2.0661
50 | MERCEDES-BENZ | CL-CLASS | 22 | 10,679 | 2.0601
51 | KIA | RONDO | 47 | 23,441 | 2.0050
52 | CHRYSLER | JEEP GRAND CHEROKEE | 123 | 62,654 | 1.9632
53 | JAGUAR LAND ROVER | XK | 3 | 1,542 | 1.9455
54 | TOYOTA | COROLLA | 374 | 194,251 | 1.9253
55 | NISSAN | SENTRA | 230 | 119,932 | 1.9178
56 | FORD MOTOR CO. | FUSION | 259 | 137,791 | 1.8797
57 | TOYOTA | 4RUNNER | 110 | 59,563 | 1.8468
58 | TOYOTA | SCION XB | 111 | 60,553 | 1.8331
59 | GENERAL MOTORS | PONTIAC G8 | 22 | 12,035 | 1.8280
60 | VOLKSWAGEN | R32 | 9 | 4,999 | 1.8004
61 | MITSUBISHI | ENDEAVOR | 17 | 9,583 | 1.7740
62 | NISSAN | XTERRA | 63 | 36,035 | 1.7483
63 | TOYOTA | AVALON | 107 | 61,851 | 1.7300
64 | FORD MOTOR CO. | CROWN VICTORIA | 16 | 9,299 | 1.7206
65 | GENERAL MOTORS | CHEVROLET CORVETTE | 56 | 32,882 | 1.7031
66 | JAGUAR LAND ROVER | S-TYPE | 3 | 1,779 | 1.6863
67 | NISSAN | ALTIMA | 506 | 304,132 | 1.6638
68 | GENERAL MOTORS | PONTIAC TORRENT | 47 | 28,370 | 1.6567
69 | MAZDA | 5 | 27 | 16,389 | 1.6474
70 | BENTLEY MOTORS | CONTINENTAL | 5 | 3,069 | 1.6292
71 | CHRYSLER | JEEP PATRIOT | 99 | 61,495 | 1.6099
72 | MITSUBISHI | LANCER | 70 | 43,668 | 1.6030
73 | NISSAN | VERSA | 122 | 76,223 | 1.6006
74 | MAZDA | TRIBUTE | 38 | 23,834 | 1.5944
75 | VOLKSWAGEN | JETTA/GLI | 138 | 87,219 | 1.5822
76 | FORD MOTOR CO. | FOCUS | 284 | 180,249 | 1.5756
77 | NISSAN | INFINITI M35/M45 | 26 | 16,522 | 1.5737
78 | MAZDA | 3 | 199 | 129,061 | 1.5419
79 | GENERAL MOTORS | PONTIAC VIBE | 31 | 20,317 | 1.5258
80 | TOYOTA | CAMRY/SOLARA | 390 | 257,638 | 1.5138
81 | FORD MOTOR CO. | MERCURY GRAND MARQUIS | 66 | 44,071 | 1.4976
82 | AUDI | AUDI A3/A3 QUATTRO | 8 | 5,378 | 1.4875
83 | NISSAN | FRONTIER PICKUP | 70 | 47,215 | 1.4826
84 | HYUNDAI | ACCENT | 76 | 51,562 | 1.4740
85 | HYUNDAI | ELANTRA | 160 | 109,498 | 1.4612
86 | AUDI | AUDI A6/A6 QUATTRO/S6/S6 AVANT | 24 | 16,651 | 1.4414
87 | KIA | SPORTAGE | 58 | 40,669 | 1.4261
88 | TOYOTA | LEXUS SC | 4 | 2,807 | 1.4250
89 | GENERAL MOTORS | PONTIAC SOLSTICE | 20 | 14,080 | 1.4205
90 | GENERAL MOTORS | SATURN AURA | 85 | 60,715 | 1.4000
91 | HYUNDAI | SANTA FE | 107 | 76,765 | 1.3939
92 | CHRYSLER | JEEP COMPASS | 36 | 26,147 | 1.3768
93 | GENERAL MOTORS | CADILLAC XLR | 2 | 1,468 | 1.3624
94 | MAZDA | CX-7 | 45 | 33,134 | 1.3581
95 | NISSAN | INFINITI G37 | 39 | 29,182 | 1.3364
96 | FORD MOTOR CO. | EDGE | 170 | 128,607 | 1.3219
97 | FORD MOTOR CO. | TAURUS | 107 | 81,095 | 1.3194
98 | VOLKSWAGEN | GOLF/RABBIT/GTI | 47 | 35,696 | 1.3167
99 | GENERAL MOTORS | CHEVROLET UPLANDER VAN | 93 | 73,084 | 1.2725
100 | GENERAL MOTORS | BUICK LACROSSE/ALLURE | 53 | 41,961 | 1.2631
101 | FORD MOTOR CO. | MERCURY MILAN | 41 | 32,608 | 1.2574
102 | FORD MOTOR CO. | MERCURY SABLE | 33 | 26,392 | 1.2504
103 | MERCEDES-BENZ | S-CLASS | 33 | 26,436 | 1.2483
104 | TOYOTA | YARIS | 147 | 120,841 | 1.2165
105 | SUZUKI | SX4 | 51 | 42,522 | 1.1994
106 | TOYOTA | SCION XD | 39 | 32,737 | 1.1913
107 | JAGUAR LAND ROVER | XJ8/XJ8L | 3 | 2,556 | 1.1737
108 | KIA | SEDONA VAN | 37 | 31,800 | 1.1635
109 | GENERAL MOTORS | GMC ENVOY | 36 | 30,956 | 1.1629
110 | GENERAL MOTORS | CADILLAC CTS | 73 | 62,943 | 1.1598
111 | AUDI | AUDI A4/A5//A4/A5 QUATTRO//S4/S4 AVANT | 53 | 46,237 | 1.1463
112 | FORD MOTOR CO. | LINCOLN TOWN CAR | 14 | 12,300 | 1.1382
113 | MERCEDES-BENZ | CLK-CLASS | 22 | 19,420 | 1.1329
114 | BMW | M5 | 3 | 2,666 | 1.1253
115 | CHRYSLER | JEEP LIBERTY | 99 | 90,530 | 1.0936
116 | GENERAL MOTORS | BUICK LUCERNE | 72 | 66,117 | 1.0890
117 | TOYOTA | TACOMA PICKUP | 156 | 146,312 | 1.0662
118 | KIA | SORENTO | 42 | 39,679 | 1.0585
119 | SUZUKI | VITARA/GRAND VITARA | 19 | 17,996 | 1.0558
120 | HONDA | ACCORD | 401 | 384,257 | 1.0436
121 | HONDA | CIVIC | 368 | 355,443 | 1.0353
122 | TOYOTA | HIGHLANDER | 139 | 137,668 | 1.0097
123 | GENERAL MOTORS | SATURN SKY | 13 | 12,979 | 1.0016
124 | NISSAN | QUEST VAN | 21 | 21,348 | 0.9837
125 | CHRYSLER | JEEP WRANGLER | 118 | 120,710 | 0.9775
126 | HYUNDAI | TIBURON | 10 | 10,315 | 0.9695
127 | FORD MOTOR CO. | ESCAPE | 239 | 249,322 | 0.9586
128 | ASTON MARTIN | VANTAGE | 1 | 1,047 | 0.9551
129 | HONDA | ACURA 3.2 TL | 54 | 56,720 | 0.9520
130 | TOYOTA | LEXUS IS | 54 | 57,931 | 0.9321
131 | HONDA | ELEMENT | 35 | 37,980 | 0.9215
132 | TOYOTA | RAV4 | 150 | 164,331 | 0.9128
133 | GENERAL MOTORS | CHEVROLET EQUINOX | 82 | 90,033 | 0.9108
134 | TOYOTA | LEXUS GS | 18 | 20,030 | 0.8987
135 | HONDA | ACURA RDX | 19 | 21,271 | 0.8932
136 | VOLKSWAGEN | NEW BEETLE | 25 | 28,003 | 0.8928
137 | SUBARU | FORESTER | 27 | 30,406 | 0.8880
138 | FORD MOTOR CO. | TAURUS X | 37 | 42,101 | 0.8788
139 | TOYOTA | LEXUS LS | 25 | 28,875 | 0.8658
140 | HONDA | ACURA TSX | 19 | 21,996 | 0.8638
141 | AUDI | AUDI A8/A8 QUATTRO | 2 | 2,359 | 0.8478
142 | SUBARU | LEGACY | 22 | 26,288 | 0.8369
143 | MASERATI | QUATTROPORTE | 1 | 1,196 | 0.8361
144 | VOLKSWAGEN | PASSAT | 29 | 35,376 | 0.8198
145 | PORSCHE | CAYMAN | 4 | 4,901 | 0.8162
146 | MERCEDES-BENZ | C-CLASS | 64 | 78,747 | 0.8127
147 | TOYOTA | FJ CRUISER | 34 | 41,931 | 0.8109
148 | MERCEDES-BENZ | SL-CLASS | 3 | 3,708 | 0.8091
149 | PORSCHE | 911 | 8 | 9,941 | 0.8047
150 | JAGUAR LAND ROVER | XKR | 1 | 1,265 | 0.7905
151 | HONDA | ACURA 3.5 RL | 4 | 5,132 | 0.7794
152 | VOLVO | V70 | 3 | 3,862 | 0.7768
153 | GENERAL MOTORS | SATURN VUE | 84 | 108,682 | 0.7729
154 | VOLVO | XC90 | 23 | 30,004 | 0.7666
155 | TOYOTA | LEXUS RX | 88 | 115,527 | 0.7617
156 | JAGUAR LAND ROVER | LAND ROVER LR2 | 11 | 14,659 | 0.7504
157 | BMW | 3 | 91 | 121,356 | 0.7499
158 | AUDI | AUDI S5/S5 QUATTRO | 1 | 1,340 | 0.7463
159 | FORD MOTOR CO. | RANGER PICKUP | 63 | 85,052 | 0.7407
160 | FORD MOTOR CO. | MERCURY MARINER | 39 | 52,931 | 0.7368
161 | VOLKSWAGEN | EOS | 10 | 13,815 | 0.7239
162 | CHRYSLER | DODGE VIPER | 1 | 1,382 | 0.7236
163 | GENERAL MOTORS | GMC CANYON PICKUP | 13 | 18,049 | 0.7203
164 | HYUNDAI | TUCSON | 16 | 22,488 | 0.7115
165 | NISSAN | INFINITI G35 | 39 | 56,155 | 0.6945
166 | VOLVO | C70 | 5 | 7,220 | 0.6925
167 | GENERAL MOTORS | CHEVROLET COLORADO PICKUP | 46 | 66,677 | 0.6899
168 | BMW | Z4/M | 4 | 5,880 | 0.6803
169 | NISSAN | ROGUE | 52 | 78,079 | 0.6660
170 | BMW | 6 | 4 | 6,052 | 0.6609
171 | TOYOTA | SIENNA VAN | 85 | 129,208 | 0.6579
172 | BMW | 5 | 52 | 79,395 | 0.6550
173 | JAGUAR LAND ROVER | VANDEN PLAS/SUPER V8 | 1 | 1,533 | 0.6523
174 | SUBARU | IMPREZA | 38 | 59,340 | 0.6404
175 | BMW | M3 | 5 | 7,854 | 0.6366
176 | MERCEDES-BENZ | E-CLASS | 27 | 42,951 | 0.6286
177 | HONDA | PILOT | 55 | 88,713 | 0.6200
178 | CHRYSLER | CROSSFIRE | 1 | 1,648 | 0.6068
179 | HONDA | FIT | 45 | 74,486 | 0.6041
180 | HYUNDAI | VERACRUZ | 8 | 13,264 | 0.6031
181 | FORD MOTOR CO. | LINCOLN MKX | 22 | 36,884 | 0.5965
182 | FORD MOTOR CO. | LINCOLN MKZ | 19 | 32,457 | 0.5854
183 | MAZDA | CX-9 | 20 | 36,033 | 0.5550
184 | VOLVO | V50 | 1 | 1,875 | 0.5333
185 | VOLVO | C30 | 3 | 5,865 | 0.5115
186 | AUDI | AUDI TT | 4 | 7,924 | 0.5048
187 | TOYOTA | PRIUS | 84 | 171,762 | 0.4890
188 | HYUNDAI | ENTOURAGE VAN | 4 | 8,217 | 0.4868
189 | SUBARU | B9 TRIBECA | 9 | 18,805 | 0.4786
190 | BMW | X3 | 10 | 21,033 | 0.4754
191 | MAZDA | RX-8 | 1 | 2,106 | 0.4748
192 | MERCEDES-BENZ | SLK-CLASS | 2 | 4,379 | 0.4567
193 | HONDA | ACURA MDX | 26 | 57,380 | 0.4531
194 | SUBARU | OUTBACK | 28 | 63,741 | 0.4393
195 | VOLVO | S80 | 5 | 11,433 | 0.4373
196 | SAAB | 9-3 | 8 | 18,364 | 0.4356
197 | MITSUBISHI | OUTLANDER | 6 | 14,445 | 0.4154
198 | HONDA | CR-V | 82 | 228,315 | 0.3592
199 | TOYOTA | LEXUS ES | 27 | 79,585 | 0.3393
200 | KIA | AMANTI | 1 | 3,398 | 0.2943
201 | BMW | MINI COOPER | 11 | 40,950 | 0.2686
202 | NISSAN | INFINITI EX35 | 4 | 15,202 | 0.2631
203 | MAZDA | MX-5 MIATA | 4 | 16,044 | 0.2493
204 | VOLVO | XC70 | 3 | 12,793 | 0.2345
205 | HONDA | ODYSSEY VAN | 28 | 135,622 | 0.2065
206 | MERCEDES-BENZ | SMART FORTWO | 4 | 21,627 | 0.1850
207 | GENERAL MOTORS | SATURN ASTRA | 3 | 17,912 | 0.1675
208 | CHRYSLER | DODGE CHALLENGER | 1 | 6,411 | 0.1560
209 | BMW | 1 | 1 | 11,887 | 0.0841
210 | ALFA ROMEO | 8C | 0 | 84 | 0.0000
211 | AUDI | AUDI R8 | 0 | 572 | 0.0000
212 | AUDI | AUDI RS4 | 0 | 1,172 | 0.0000
213 | BENTLEY MOTORS | ARNAGE | 0 | 63 | 0.0000
214 | BENTLEY MOTORS | AZURE | 0 | 127 | 0.0000
215 | BMW | B7 | 0 | 232 | 0.0000
216 | BUGATTI | VEYRON | 0 | 18 | 0.0000
217 | FERRARI | 141 | 0 | 324 | 0.0000
218 | FERRARI | 430 | 0 | 1,032 | 0.0000
219 | FERRARI | 612 SCAGLIETTI | 0 | 94 | 0.0000
220 | FORD MOTOR CO. | SHELBY GT | 0 | 3,244 | 0.0000
221 | GENERAL MOTORS | CADILLAC FUNERAL COACH/HEARSE | 0 | 967 | 0.0000
222 | GENERAL MOTORS | CADILLAC LIMOUSINE | 0 | 664 | 0.0000
223 | JAGUAR LAND ROVER | XJR | 0 | 114 | 0.0000
224 | JAGUAR LAND ROVER | X-TYPE | 0 | 807 | 0.0000
225 | LAMBORGHINI | GALLARDO | 0 | 792 | 0.0000
226 | LOTUS | ELISE | 0 | 129 | 0.0000
227 | LOTUS | EXIGE | 0 | 123 | 0.0000
228 | MASERATI | GRANTURISMO | 0 | 1,465 | 0.0000
229 | MAZDA | B SERIES PICKUP | 0 | 1,884 | 0.0000
230 | MERCEDES-BENZ | MAYBACH 57 | 0 | 76 | 0.0000
231 | MERCEDES-BENZ | MAYBACH 62 | 0 | 67 | 0.0000
232 | MERCEDES-BENZ | SLR-CLASS | 0 | 105 | 0.0000
233 | NISSAN | INFINITI FX45 | 0 | 395 | 0.0000
234 | PORSCHE | BOXSTER | 0 | 4,067 | 0.0000
235 | ROLLS ROYCE | PHANTOM | 0 | 378 | 0.0000
236 | ROUSH PERFORMANCE | RPP MUSTANG | 0 | 1,491 | 0.0000
237 | SAAB | 9-5 | 0 | 3,336 | 0.0000
238 | SALEEN | S281/H302 | 0 | 370 | 0.0000
239 | SPYKER | C8 | 0 | 6 | 0.0000

Issued on: August 12, 2010.
Joseph S. Carra,
Acting Associate Administrator for Rulemaking.

[FR Doc. 2010-20316 Filed 8-16-10; 8:45 am]

BILLING CODE 4910-59-P